DEPARTMENT OF COMMERCE

Foreign-Trade Zones Board

[Docket 69-2010]

Proposed Foreign-Trade Zone—Terrebonne Parish, LA; Under Alternative Site Framework; Application Filed

An application has been submitted to the Foreign-Trade Zones Board (the Board) by the Houma-Terrebonne Airport Commission to establish a general-purpose foreign-trade zone at sites in Terrebonne Parish, Louisiana, adjacent to the Morgan City Customs and Border Protection (CBP) port of entry, under the alternative site framework (ASF) adopted by the Board (74 FR 1170-1173, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on December 6, 2010. The applicant is authorized to make the proposal under the Louisiana Revised Statutes, Title 51, Sections 61-65.

The proposed zone would be the second general-purpose zone for the Morgan City CBP port of entry. The existing zone is as follows: FTZ 261, Alexandria, Louisiana (Grantee: Board of Commissioners of the England Economic and Industrial Development District, Board Order 1325, 4/21/2004).

The applicant's proposed service area under the ASF would be Terrebonne Parish, Louisiana. If approved, the applicant would be able to serve sites throughout the service area based on companies' needs for FTZ designation. The proposed service area is adjacent to the Morgan City Customs and Border Protection port of entry.

The proposed zone would initially include two “magnet” sites in Terrebonne Parish: Proposed Site 1 (1,640 acres)—Houma Terrebonne Airport and Industrial Park, 10264 East Main Street, Houma; and, Proposed Site 2 (684 acres)—Terrebonne Port, 383 Main Court Port, Houma. Both sites are owned by Terrebonne Parish with the Houma-Terrebonne Airport Commission and Terrebonne Port Commission managing each site, respectively. The ASF allows for the possible exemption of one magnet site from the “sunset” time limits that generally apply to sites under the ASF, and the applicant proposes that Site 1 be so exempted.

The application indicates a need for zone services in Houma/Terrebonne Parish, Louisiana. Several firms have indicated an interest in using zone procedures for warehousing/distribution activities for a variety of products. Specific manufacturing approvals are not being sought at this time. Such requests would be made to the Board on a case-by-case basis.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is February 11, 2011. Rebuttal comments in response to material submitted during the foregoing period may be submitted during the subsequent 15-day period to February 28, 2011.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Camille Evans at Camille.Evans@trade.gov or (202) 482-2350.

Dated: December 7, 2010.
Andrew McGilvray,
Executive Secretary.

[FR Doc. 2010-31223 Filed 12-10-10; 8:45 am]

BILLING CODE P